DEPARTMENT OF TRANSPORTATION

Office of the Secretary

[Docket No. OST-2002-11996]

Draft Report Implementing OMB's Information Dissemination Quality Guidelines

AGENCY: Office of the Secretary, DOT.

ACTION: Extension of public comment period.

SUMMARY: On January 3, 2002, the Office of Management and Budget (OMB) issued Government-wide guidelines under Section 515 that direct each Federal agency to establish and implement written procedures to ensure and maximize the quality, utility, objectivity and integrity of the information that they disseminate. On April 24, 2002, the Department of Transportation (DOT) posted its proposed Departmental guidelines to implement Section 515 of the Treasury and General Government Appropriations Act for FY 2001 (PL 106-554) on its Web site for public comments. On April 30, 2002, the Department published a notice of availability of its draft guidelines in the Federal Register. Today's notice extends the public comment period for this proposal.

DATES: Comments should be submitted by June 17, 2002.

ADDRESSES: You may file comments using the Internet by logging in on DOT'S Dockets Management System (DMS) Web site at http://dms.dot.gov. Please follow the online instructions for submitting an electronic comment and for reviewing all comments on line. Once received, a notification receipt will be forwarded to you. You may fax your comments to the DMS at (202) 493-2251. You may also submit your comments by mail or in person by sending your comments to the U. S. Department of Transportation (DOT), Office of Dockets and Media Management to the Docket Clerk, Docket No. OST-2002-11996, 400 Seventh Street, SW., Room PL-401, Washington, DC 20590-0001. If you would like the Department to acknowledge receipt of your written comments, you must include a self-addressed stamped postcard on which the following statement is made: “Comments on Docket OST-2002-11996.” The Docket Clerk will date stamp the postcard prior to returning it to you via the U.S. mail. Comments should identify the docket number. Written comments should be submitted in duplicate. The Office of Dockets and Media Management is open for examination and copying at the above address from 9:00 a.m. to 5 p.m., Monday through Friday, except Federal holidays. All comments received will be available for inspection at the above address. Please note that due to current mail security procedures affecting U.S. Postal Service delivery to Government offices, commenters may find it advantageous to use an alternative method (the internet, fax, or professional delivery service) to submit comments to the Docket and ensure their timely receipt at the U.S. Department of Transportation.

FOR FURTHER INFORMATION CONTACT: Vanester M. Williams, Office of the Chief Information Officer, U. S. Department of Transportation; 202-366-1771 (not a toll-free call) or by e-mail at vanester.Williams@ost.dot.gov. For specific inquiries on the Department's administrative mechanisms for allowing persons to seek correction of information, please contact Robert Ashby, Office of the General Counsel, U. S. Department of Transportation; 202-366-9310 (not a toll-free call) or by e-mail at bob.ashby@ost.dot.gov. For specific inquiries on the Department's statistical guidelines, please contact Dr. Patrick Flanagan, Bureau of Transportation Statistics, U. S. Department of Transportation; 202-366-4168 (not a toll-free call) or by e-mail at pat.flanagan@bts.dot.gov.

SUPPLEMENTARY INFORMATION: The Department's information quality guidelines will apply to a wide variety of its information dissemination activities in order to meet basic information quality standards set forth by Section 515. The purpose of these guidelines is to provide a framework under which the Department will allow affected persons an opportunity to seek and obtain correction of information maintained and disseminated by the Department that does not comply with these guidelines.

The Department received a request from a commenter to extend the comment period for this proposal an additional 60 days, through the end of July. In order to meet the August 1, 2002 deadline for submission of draft final guidelines to OMB, as well as the October 1, 2002 deadline for issuance of final guidelines to OMB, the Department will not be able to extend the comment period for the requested length of time. However, in order to provide the public some additional time to review and send comments to us, the Department will extend the comment period for an additional two weeks. The closing date for the extended comment period will be June 17, 2002.

Instructions for filing comments may also be found in the guidelines document posted on the Department's DMS Web site. The Department will review all comments submitted in response to its draft guidelines. The comments will be available for public review on the DMS Web site.

Issued in Washington, DC, on May 30, 2002.
Eugene K. Taylor, Jr.,
Deputy CIO, Department of Transportation.

[FR Doc. 02-14225 Filed 6-5-02; 8:45 am]

BILLING CODE 4910-62-P